DEPARTMENT OF ENERGY

Federal Energy Regulatory Commission

Notice Announcing Preliminary Permit Drawing

January 20, 2011.

Lock+ Hydro Friends Fund XL | Project No. 13746-000
FFP Missouri 4, LLC | Project No. 13750-000
Allegheny 4 Hydro, LLC | Project No. 13776-000
Three Rivers Hydro, LLC | Project No. 13782-000

On May 18, 2010, at 8:30 a.m., the Commission received four preliminary permit applications for proposed projects to be located at the Allegheny River Lock and Dam No. 4 located on the Allegheny River in Allegheny County, Pennsylvania.¹ The applications were filed by Lock+ Hydro Friends Fund XL, for Project No. 13746-000, FFP Missouri 4, LLC, for Project No. 13750-000, Allegheny 4 Hydro, LLC, for Project No. 13776-000, and Three Rivers Hydro, LLC, for Project No. 13782-000.

¹ The Commission is open each day from 8:30 a.m. to 5 p.m., except Saturdays, Sundays, and holidays. 18 CFR 375.101(c) (2010). The applications were filed between 5 p.m. on Monday May 17, 2010, and 8:30 a.m. on Tuesday May 18, 2010. Under the Commission's Rules of Practice and Procedure, any document received after regular business hours is considered filed at 8:30 a.m. on the next regular business day. 18 CFR 385.2001(a)(2) (2010).

Where all permit applicants are municipalities or all permit applicants are non-municipalities, and no applicant's plans are better adapted than the others' to develop, conserve, and utilize in the public interest the water resources of a region, the Commission issues a permit to the applicant who filed first in time.² In this case, because four applications from entities not claiming municipal preference are deemed filed at the same time, the Commission will conduct a random tie breaker to determine priority. In the event that the Commission concludes that no applicant's plans are better adapted than the others, priority will be determined accordingly.

² 18 CFR 4.37 (2010). See, e.g., BPUS Generation Development, LLC, 126 FERC ¶ 61,132 (2009).

On January 27, 2011, at 10 a.m. (eastern time), the Secretary of the Commission, or her designee, will, by random drawing, determine the filing priority for the four applicants identified in this notice. The drawing is open to the public and will be held in room 2C, the Commission Meeting Room, located at 888 First St., NE., Washington, DC 20426. The results of the drawing will be recorded by the Secretary or her designee. A subsequent notice will be issued by the Secretary announcing the results of the drawing.

Kimberly D. Bose,
Secretary.

[FR Doc. 2011-1712 Filed 1-26-11; 8:45 am]

BILLING CODE 6717-01-P